DEPARTMENT OF THE INTERIOR

National Park Service

Notice of National Natural Landmark Designation for Ashfall Fossil Beds, Antelope County, NE

AGENCY: National Park Service, Interior.

ACTION: Public Notice of National Natural Landmark Designation.

SUMMARY: The Acting Secretary of the Interior has determined that Ashfall Fossil Beds, located near Orchard in Antelope County, Nebraska, meets the criteria for national significance and has designed this site a National Natural Landmark.

FOR FURTHER INFORMATION CONTACT: Margaret Brooks at 520-670-6501 extension 232.

SUPPLEMENTARY INFORMATION: On May 9, 2006, Acting Secretary Lynn Scarlett designated Ashfall Fossil Beds, a Nebraska State Historical Park, as a National Natural Landmark. Ashfall Fossil Beds meets the national significance criteria for a National Natural Landmark because it is the only location on earth where large numbers of fossil mammals have been found as whole, three-dimensionally preserved skeletons. A thick bed of volcanic ash contains hundreds of complete skeletons of extinct rhinos, camels, three-toed horses and many other vertebrates lying in their death poses in an ancient waterhole. The animals were killed and buried by ash from an enormous volcanic eruption some 10 million years ago. This site is located near Orchard in Antelope County and is open to the public.

The Secretary of the Interior established the National Natural Landmark Program in 1962 under the authority of the Historic Sites Act of 1935 (16 U.S.C. 461 et seq.). The National Park Service (NPS) manages this program using regulations found at 36 CFR part 62. Potential natural landmarks are identified in studies by the NPS and from other sources, evaluated by expert natural scientists, and, if determined nationally significant, designated as landmarks by the Secretary of the Interior. When designated, a landmark is included in the National Registry of Natural Landmarks, which currently lists 580 National Natural Landmarks nationwide. Of the 580 listed landmarks, half are administered solely by public agencies; i.e., Federal, State, county or municipal governments. Nearly one-third are owned solely by private parties. The remaining natural landmarks are owned or administered by a mixture of public and private owners. Because many natural landmarks are privately owned or not managed for public access, owner permission must be obtained to visit them. Designation does not infer a right of public access.

National natural landmark designation is not a land withdrawal, does not change the ownership of an area and does not dictate activity. However, Federal agencies should consider impacts to the unique properties of these nationally significant areas in carrying out their responsibilities under the National Environmental Policy Act (42 U.S.C. 4321 et seq.). Designation could result in State or local planning or land use implications. National Natural Landmark preservation is made possible by the long-term, voluntary commitments of public and private owners to protect the outstanding values of the areas. Information on the National Natural Landmark Program can be found in 36 CFR part 62 or on the Internet at www1.nature.nps.gov/nnl/index.htm.

Dated: May 22, 2006.
Margaret A. Brooks,
National Natural Landmark Program Manager.

[FR Doc. 06-6350 Filed 7-18-06; 8:45 am]

BILLING CODE 4310-70-M